FEDERAL HOUSING FINANCE BOARD

[No. 2003-N-7]

Proposed Collection; Comment Request

AGENCY: Federal Housing Finance Board.

ACTION: Notice.

SUMMARY: In accordance with the requirements of the Paperwork Reduction Act of 1995, the Federal Housing Finance Board (Finance Board) is seeking public comments concerning a three-year extension by the Office of Management and Budget (OMB) of the previously approved information collection entitled “Capital Requirements for the Federal Home Loan Banks.”

DATES: Interested persons may submit comments on or before November 21, 2003.

ADDRESSES: Send comments by e-mail to comments@fhfb.gov, by facsimile to 202/408-2530, or by regular mail to the Federal Housing Finance Board, 1777 F Street, NW., Washington, DC 20006, ATTN: Public Comments. For copies of the information collection or public comments, contact Karen Rogers, Executive Secretary, by e-mail at rogersk@fhfb.gov, by facsimile at (202) 408-2530, or by telephone at (202) 408-2910.

FOR FURTHER INFORMATION CONTACT: Jonathon F. Curtis, Senior Financial Analyst, Regulations & Research Division, Office of Supervision, by e-mail at curtisj@fhfb.gov, by telephone at (202) 408-2866, or by regular mail at the Federal Housing Finance Board, 1777 F Street, NW., Washington, DC 20006.

SUPPLEMENTARY INFORMATION:

A. Need for and Use of the Information Collection

Section 6 of the Federal Home Loan Bank Act (Bank Act) establishes the capital structure for the Federal Home Loan Banks (Banks) and requires the Finance Board to issue regulations prescribing uniform capital standards applicable to each Bank. 12 U.S.C. 1426. In compliance with the requirements of section 6, the Finance Board added parts 930, 931, 932 and 933 to its regulations to implement the statutory capital structure for the Banks. 12 CFR parts 930, 931, 932 and 933. Part 930 establishes definitions applicable to risk management and the capital regulations; part 931 concerns Bank capital stock; part 932 establishes Bank capital requirements; and part 933 sets forth the requirements for Bank capital structure plans. The implementing regulations also include conforming changes to parts 917, 925 and 956, which concern, respectively, the powers and responsibilities of Bank boards of directors and senior management, Bank members, and Bank investments. 12 CFR parts 917, 925 and 956.

The Banks use the information collection contained in the rules implementing section 6 of the Bank Act to determine the amount of capital stock a member must purchase to maintain membership in and to obtain services from a Bank. More specifically, sections 931.3 and 933.2(a) authorize a Bank to offer its members several options to satisfy a membership investment in capital stock and an activity-based stock purchase requirement. 12 CFR 931.3 and 933.2(a). The information collection is necessary to provide the Banks with the flexibility to meet the statutory and regulatory capital structure requirements while allowing Bank members to choose the option best suited to their business requirements.

The OMB number for the information collection is 3069-0059. The OMB clearance for the information collection expires on November 30, 2003. The likely respondents include Banks and Bank members.

B. Burden Estimate

The Finance Board estimates the total annual average number of activity-based stock purchase requirement respondents at 4,000, with 4 responses per respondent. The estimate for the average hours per response is 20 hours. The estimate for the annual hour burden for activity-based stock purchase requirement respondents is 320,000 hours (4,000 activity-based respondents × 4 responses per respondent × 20 hours per response).

The Finance Board estimates the total annual average number of membership investment in capital stock respondents at 8,000, with 4 responses per respondent. The estimate for the average hours per response is 10 hours. The estimate for the annual hour burden for membership investment in capital stock respondents is 320,000 hours (8,000 membership investment respondents × 4 responses per respondent × 10 hours per response).

The estimate for the total annual hour burden for all respondents is 640,000 hours.

C. Comment Request

The Finance Board requests written comments on the following: (1) Whether the collection of information is necessary for the proper performance of Finance Board functions, including whether the information has practical utility; (2) the accuracy of the Finance Board's estimates of the burdens of the collection of information; (3) ways to enhance the quality, utility, and clarity of the information collected; and (4) ways to minimize the burden of the collection of information on respondents, including through the use of automated collection techniques or other forms of information technology.

By the Federal Housing Finance Board.
Donald Demitros,
Chief Information Officer.

[FR Doc. 03-24101 Filed 9-18-03; 12:01 pm]

BILLING CODE 6725-01-P